NATIONAL AERONAUTICS AND SPACE ADMINISTRATION

[Notice: (19-065)]

NASA Advisory Council; Human Exploration and Operations Committee; Meeting

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Tuesday, October 29, 2019, 12:30 p.m. to 5:30 p.m.; Wednesday, October 30, 2019, 9:30 a.m. to 4:30 p.m. Eastern Time.

ADDRESSES: NASA Kennedy Space Center, Operations and Checkout (O&C) Conference Room 2769, Kennedy Space Center, Florida 32899.

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. Any interested person may dial the toll-free access number 1-888-324-9238 or toll access number 1-517-308-9132, and then the numeric participant passcode: 3403297, to participate in this meeting by telephone for both days. The WebEx link is https://nasaenterprise.webex.com , the meeting number is 909 467 766, and the password is Exploration@2019 (case sensitive) for both days.

The agenda for the meeting includes the following topics:

—Human Exploration and Operations Overview

—Low Earth Orbit Commercialization

—Commercial Crew

—Launch Services Program

—Exploration Systems Development

—Advanced Exploration Systems (Deep Space Exploration)

Attendees will be requested to sign a register and to comply with NASA Kennedy Space Center security requirements, including the presentation of a valid picture ID to NASA Security before access to NASA Kennedy Space Center. To attend the meeting in person, attendees that are U.S. citizens and Permanent Residents (green card holders) are requested to provide full name and citizenship status no less than 3 working days prior to the meeting. Foreign nationals attending this meeting will be required to provide a copy of their passport and visa in addition to providing the following information no less than 15 days prior to the meeting: Full name; gender; date/place of birth; citizenship; passport information (number, country, telephone); visa information (number, type, expiration date); employer/affiliation information (name of institution, address, country, telephone); title/position of attendee. Information should be sent to Dr. Bette Siegel via email at bette.siegel@nasa.gov. It is imperative that the meeting be held on these dates to accommodate the scheduling priorities of the key participants.

Patricia Rausch,
Advisory Committee Management Officer, National Aeronautics and Space Administration.

[FR Doc. 2019-22336 Filed 10-11-19; 8:45 am]

BILLING CODE 7510-13-P